DEPARTMENT OF COMMERCE

National Oceanic and Atmospheric Administration

RIN 0648-XD497

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's Spiny Dogfish Monitoring Committee will meet to consider developing alternative management measures for the 2015 fishing year based on existing or revised acceptable biological catch (ABC) as determined by the Council's Scientific and Statistical Committee (SSC).

DATES: The meeting will be held on Tuesday, September 30, 2014, from 9 a.m. to 12 noon.

ADDRESSES: The meeting will be held via webinar with a listening station also available at the Council address below. Webinar link: http://mafmc.adobeconnect.com/dogfish/.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Spiny dogfish management measures for the 2015 fishing year were established via rulemaking effective August 8, 2014. The Monitoring Committee will review and recommend existing or new management measures for the 2015 fishing year that will ensure that ABC for 2015 will not be exceeded. Currently specified management measures for spiny dogfish are available via the Council's Web site (www.mafmc.org).

Special Accommodations

The meeting is physically accessible to people with disabilities. Requests for sign language interpretation or other auxiliary aids should be directed to M. Jan Saunders at the Mid-Atlantic Council Office, (302) 526-5251, at least 5 days prior to the meeting date.

Dated: September 8, 2014.
Tracey L. Thompson,
Acting Deputy Director, Office of Sustainable Fisheries, National Marine Fisheries Service.

[FR Doc. 2014-21690 Filed 9-10-14; 8:45 am]

BILLING CODE 3510-22-P